DEPARTMENT OF COMMERCE

International Trade Administration

[Application No. 01-1A001]

Export Trade Certificate of Review

ACTION: Notice of issuance of an Export Trade Certificate of Review to Ginseng & Herb Cooperative (“GHC”), Application No. 01-1A001.

SUMMARY: The Secretary of Commerce, through the Office of Trade and Economic Analysis (“OTEA”), issued an amended Export Trade Certificate of Review to GHC on October 16, 2018.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2018). OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

GHC's Export Trade Certificate of Review has been amended to:

1. Remove Ginseng Board of Wisconsin (“GBW”) as the Export Trade Certificate of Review holder and issue the Export Trade Certificate of Review to GHC,

2. Remove all references to GBW and to the GBW Seal,

3. Remove all references to Members,

4. Remove all references to Mechthild Handke,

5. Remove all references to Ginseng Research Institute of America, Inc. (“GRIA”),

6. Remove reference to the supplier lottery,

7. Change the Products covered from “cultivated ginseng and cultivated ginseng products; cultivated golden seal and cultivated golden seal products; cultivated echinacea and cultivated echinacea products” to “cultivated ginseng and cultivated ginseng products, i.e., wholesale ginseng roots, ginseng capsules 500 mg, ginseng slices, ginseng tea, ginseng powder and fiber, and ginseng retail root”, and

8. Strike the following: “Meetings at which GBW and the Members establish export prices shall not be open to the public.”

The effective date of the amended certificate is July 18, 2018, the date on which GHC's application to amend was deemed submitted.

Dated: October 24, 2018.
Joseph Flynn,
Director, Office of Trade and Economic Analysis, International Trade Administration, U.S. Department of Commerce.

[FR Doc. 2018-23578 Filed 10-26-18; 8:45 am]

BILLING CODE 3510-DR-P